COMMISSION ON CIVIL RIGHTS

Agenda and Notice of Public Meeting of the Rhode Island Advisory Committee

Notice is hereby given, pursuant to the provisions of the rules and regulations of the U.S. Commission on Civil Rights, that a meeting of the Rhode Island Advisory Committee to the Commission will convene at 3:30 p.m. and adjourn at 7 p.m. on July 9, 2001, at the Center for Hispanic Policy & Advocacy, 421 Elmore Avenue, Providence, Rhode Island 02907. The purpose of the meeting is to receive briefings from invited community leaders and civil rights advocates, and plan future activities.

Persons desiring additional information, or planning a presentation to the Committee, should contact Chairperson Olga Noguera, 401-462-2130, or Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, June 1, 2001.
Edward A. Hailes, Jr.
General Counsel.

[FR Doc. 01-14680 Filed 6-11-01; 8:45 am]

BILLING CODE 6335-01-P